DEPARTMENT OF COMMERCE

National Oceanic and Atmospheric Administration

RIN 0648-XG088

Endangered and Threatened Species; Take of Anadromous Fish

AGENCY: National Marine Fisheries Service (NMFS), National Oceanic and Atmospheric Administration (NOAA), Commerce.

ACTION: Applications for five new scientific research permits and seven permit renewals.

SUMMARY: Notice is hereby given that NMFS has received twelve scientific research permit application requests relating to Pacific salmon, steelhead, eulachon, and green sturgeon. The proposed research is intended to increase knowledge of species listed under the Endangered Species Act (ESA) and to help guide management and conservation efforts. The applications may be viewed online at https://apps.nmfs.noaa.gov/preview/preview_open_for_comment.cfm.

DATES: Comments or requests for a public hearing on the applications must be received at the appropriate address or fax number (see ADDRESSES) no later than 5 p.m. Pacific standard time on April 16, 2018.

ADDRESSES: Written comments on the applications should be sent to the Protected Resources Division, NMFS, 1201 NE Lloyd Blvd., Suite 1100, Portland, OR 97232-1274. Comments may also be sent by email to nmfs.swr.apps@noaa.gov (include the permit number in the subject line of email).

FOR FURTHER INFORMATION CONTACT: Shivonne Nesbit, Portland, OR (ph.: 503-231-6741), email: Shivonne.Nesbit@noaa.gov). Permit application instructions are available from the address above, or online at https://apps.nmfs.noaa.gov.

SUPPLEMENTARY INFORMATION:

Species Covered in This Notice

The following listed species are covered in this notice:

Chinook salmon (Oncorhynchus tshawytscha): Threatened California Coastal (CC); endangered Sacramento River winter-run (SRWR); threatened Central Valley spring-run (CVSR).

Coho salmon (O. kisutch): Threatened Southern Oregon/Northern California Coast (SONCC); endangered Central California Coast (CCC).

Steelhead (O. mykiss): Threatened Northern California (NC); threatened Central California Coast (CCC); threatened California Central Valley (CCV); threatened South-Central California Coast (S-CCC); endangered Southern California (SC).

North American green sturgeon (Acipenser medirostris): Threatened southern distinct population segment (sDPS).

Eulachon (Thaleichthys pacificus): Threatened sDPS.

Authority

Scientific research permits are issued in accordance with section 10(a)(1)(A) of the ESA (16 U.S.C. 1531 et. seq) and regulations governing listed fish and wildlife permits (50 CFR 222-226). NMFS issues permits based on findings that such permits: (1) Are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 1606-2R

Zach Larson and Associates is seeking to renew for five years a research permit that currently allows them to take juvenile SONCC coho in the Smith River, Morrison Creek, Ranch Bar, Saxton Bar Alcove, and Yontocket Slough in Northern California. The research may also cause them to take adult eulachon—a species for which there are currently no ESA take prohibitions. The study's purpose is to establish baseline data for the comparability between pre-treatment and post-treatment project sites. Documenting salmonid and non-salmonid species presence and their habitat use in privately owned portions of the Smith River is also needed to identify further habitat enhancement opportunities in the Smith River. This research would benefit the affected species by informing future restoration designs, providing data to support future enhancement projects, and helping managers assess the status of salmonid populations in the sloughs and alcoves in the Smith River estuary. The researchers propose to capture fish using beach seines. Captured fish would be captured, handled, and released. The researchers do not intend to kill any listed fish, but some may die as an inadvertent result of the research.

15573-3R

The Glenn-Colusa Irrigation District (GCID) is seeking to renew for five years a research permit that currently allows them to take juvenile CVSR chinook, SRWR chinook, CCV steelhead and juvenile green sturgeon in the Sacramento River, California. The study's purpose is to monitor restoration actions and to detect annular and cyclic population changes. The GCID project provides the longest and most complete anadromous fish data set on Sacramento River. As a result, the research would benefit the affected species by informing operational decisions for state and Federal water facilities and supplementing other out-migrant monitoring projects conducted in the Sacramento River Basin. The researchers propose to use a rotary screw trap to capture the targeted fish. They would then be anesthetized, identified to species, measured, have a tissue sample taken for genetic analysis (fin clip and scales), and allowed to recover in cool, aerated water before being released back to the stream. The researchers do not intend to kill any listed fish, but some may die as an inadvertent result of the research.

15730-2R

The Salmon Protection and Watershed Network (SPAWN) is seeking to renew for five years a research permit that currently allows them to take spawned adult carcasses and juvenile CCC coho, CC chinook and CCC steelhead in Lagunitas Creek and tributaries, California. The study's purpose is to provide baseline data on habitat and juvenile and adult salmon abundance throughout the species' range for CCCCoho. The research would benefit the affected species by providing data to inform future research, restoration, and conservation efforts. The researchers propose to use fyke nets to capture juvenile fish and observe adult fish during spawning surveys. Captured fish would be anesthetized, identified to species, measured, PIT tagged, have a tissue sample taken for genetic analysis (fin clip and scales), and allowed to recover in cool, aerated water before being released back to the stream. The researchers do not intend to kill any listed fish, but some may die as an inadvertent result of the research.

15824-2R

The County of Santa Cruz is seeking to renew for five years a research permit that currently allows them to take juvenile CCC coho, CCC steelhead, and S-CCC steelhead in the San Lorenzo River and its tributaries, Aptos Creek and its tributaries, Corralitos Creek and its tributaries, and Soquel Creek and its tributaries. The study's purpose is to document habitat conditions and collect data on juvenile salmonid abundance in Santa Cruz County watersheds. The research would benefit the affected species by providing data on salmonid spawning and rearing habitat conditions and thereby help inform habitat restoration and conservation efforts and land and water use decisions. The researchers at Santa Cruz County propose to use backpack electrofishing and beach seines to capture fish and to observe fish during snorkel surveys. Captured fish would be anesthetized, identified to species, measured, PIT tagged, have a tissue sample taken for genetic analysis (fin clip and scales), and allowed to recover in cool, aerated water before being released back to the stream. The researchers do not intend to kill any listed fish, but some may die as an inadvertent result of the research.

16110-2R

The Marin Municipal Water District (MMWD) is seeking to renew for five years a research permit that currently allows them to take juvenile and adult CCC coho, CCC steelhead, and CC chinook Lagunitas Creek (including two tributaries, San Geronimo Creek and Devil's Gulch) and Walker Creek. The study's purpose is to document trends in coho salmon abundance, determine freshwater and marine survival rates for coho salmon, assess the relationship between population trends and management efforts, and determine which coho life stage has the lowest survival rates. In Lagunitas Creek, this research would benefit the affected species by providing a consistent sampling program as a standardized method to evaluate salmon populations. The renewed monitoring program would maintain Lagunitas Creek as a Coastal Monitoring Program (CMP) life-cycle monitoring station. In Walker Creek, the research would benefit the affected species by providing needed population data for coho and steelhead—data needed to inform future habitat restoration. The MMWD propose to use backpack electrofishing and rotatory screw traps to capture fish and to observe fish during snorkel surveys and spawning surveys. Captured fish would be anesthetized, identified to species, measured, PIT tagged, have a tissue sample taken for genetic analysis (fin clip and scales), and allowed to recover in cool, aerated water before being released back to the stream. The researchers do not intend to kill any listed fish, but some may die as an inadvertent result of the research.

16417-2R

The Santa Clara Valley Water District (SCVWD) is seeking to renew for five years a research permit that currently allows them take of take juvenile and adult CCC steelhead in Guadalupe Creek, Alamitos Creek, Calero Creek, Los Gatos Creek, Guadalupe River, Stevens Creek, Coyote Creek, Upper Penitencia Creek, and Lake Almaden. The study's purpose is to collect baseline data on O. mykiss population status, survival rates and migration patterns. This research would benefit the affected species by filling in data gaps on O. mykiss distribution and habitat use in Santa Clara County. The SCVWD proposes to use backpack and boat electrofishing to capture fish. The researchers would also use Vaki Riverwatchers, underwater infrared fish counters, at existing facilities to document migration. All captured fish would be anesthetized, identified to species, measured, PIT tagged, have a tissue sample taken for genetic analysis (fin clip and scales), and allowed to recover in cool, aerated water before being released back to the stream. The researchers do not intend to kill any listed fish, but some may die as an inadvertent result of the research.

16544

The California Department of Fish and Wildlife (CDFW) is seeking a five-year permit to annually take juvenile and adult SC steelhead in Southern California from Topanga Canyon to Santa Maria. The purpose of this project is to monitor the population status, trends, spatial structure, and life history diversity of SC steelhead. This research would benefit the affected species by providing information to manage and recover the species. The CDFW proposes to use backpack electrofishing, hand and/or dipnets, beach seines, hook and line sampling, minnow traps, fyke nets, and weirs to capture fish. Fish would also be observed during snorkel and spawning surveys. Captured fish would be anesthetized, identified to species, measured, PIT tagged, have a tissue sample taken for genetic analysis (fin clip and scales), and allowed to recover in cool, aerated water before being released back to the stream. The researchers do not intend to kill any listed fish, but some may die as an inadvertent result of the research.

17428-3R

The U.S. Fish and Wildlife Service (USFWS) is seeking to renew for five years a research permit that currently allows them take juvenile CVSR Chinook, SRWR Chinook, and juvenile and adult CCC steelhead on the America River, CA. The study's purpose is to monitor the abundance of juvenile salmon, infer biological responses to ongoing habitat restoration activities, and generate data for the salmon life cycle models. The research would benefit the affected species by informing future efforts to enhance the juvenile salmonid abundance, production, condition, and survival in the American River. The USFWS propose to use a rotary screw trap to capture fish. Captured fish would be anesthetized, identified to species, measured, PIT tagged, have a tissue sample taken for genetic analysis (fin clip and scales), and allowed to recover in cool, aerated water before being released back to the stream. The researchers do not intend to kill any listed fish, but some may die as an inadvertent result of the research.

20622

The Confluence Environmental Company (CEC) is seeking a five-year permit to annually take juvenile CC Chinook, juvenile SONCC coho, juvenile NC steelhead, subadult green sturgeon and adult eulachon—a species for which there are currently no ESA take prohibitions—in Humbolt Bay. The study's purpose is to compare different fish communities using estuarine habitats with and without oyster aquaculture in Humboldt Bay. The research would benefit the affected species by providing information on the environmental impacts shellfish aquaculture may have on the listed animals. The CEC proposes to use fyke nets to capture fish. Captured fish would be identified to species, and released. The researchers do not intend to kill any listed fish, but some may die as an inadvertent result of the research.

20792

FISHBIO is seeking a five-year permit to annually take juvenile and adult CCV steelhead, CVSR chinook, and sDPS green sturgeon in the San Joaquin River and San Joaquin's river south delta. The study's purpose is to characterize the spatial distribution of non-native resident fishes in the San Joaquin River and delta, and to identify areas of relatively elevated predator abundance. That information, in turn, would benefit listed species by increasing our understanding of the potential impacts predators may be having on juvenile salmonids migrating through this region and thus helping inform management decisions. FISHBIO proposes to use boat electrofishing to capture fish and to observe fish during stream surveys. Captured fish would be immediately placed in an aerated livebox until processing (i.e., measuring and recording) is complete, and a partition in the livebox would separate potential predators from prey-sized fish to eliminate harmful interactions. Captured fish would be identified to species, and released. ESA-listed fish would be kept for as little time as possible and released before non-listed species. The researchers do not intend to kill any listed fish, but some may die as an inadvertent result of the research.

21499

The California Department of Water Resources (DWR) is seeking a five-year permit to annually take juvenile SRWR chinook, CVSR chinook, CCV steelhead and sDPS green sturgeon in the Northern Sacramento River Delta. The purpose of this project is test if the removal or reduction of invasive aquatic vegetation biomass changes the density and composition of the local food web. The research would benefit the affected species by providing information on ways to reduce non-native predator numbers and helping direct habitat restoration for native fish. The DWR proposes to use boat electrofishing to capture fish. Captured fish would be identified to species, and released. The researchers do not intend to kill any listed fish, but some may die as an inadvertent result of the research.

21547

The CDFW is seeking a two-year permit to take juvenile SONCC coho, CC chinook, NC steelhead, CCV steelhead, CCC coho, CVSR chinook, SRWR chinook, CCC steelhead, SC steelhead, and sDPS green sturgeon. The study's purpose is to assess the condition of the rivers and streams in California and provide a baseline for future comparisons. CDFW is participating in the USEPA National Rivers and Streams Assessment (NRSA), a probability-based survey designed to assess the condition of the Nation's rivers and streams. NRSA is a keystone program in California that provides data for the National Water Quality Inventory Report to Congress (305(b) report) and fulfills the water quality criteria and water quality monitoring requirements of the Clean Water Act. The CDFW proposes to capture fish by boat, raft or backpack electrofishing. Captured fish would be identified and measured. After the captured fish have fully recovered in an aerated live well they would be released at or near the location of capture, away from any future electroshocking activities. The researchers do not intend to kill any listed fish, but some may die as an inadvertent result of the research.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: March 12, 2018.
Angela Somma,
Chief, Endangered Species Division, Office of Protected Resources, National Marine Fisheries Service.

[FR Doc. 2018-05257 Filed 3-14-18; 8:45 am]

BILLING CODE 3510-22-P